DEPARTMENT OF JUSTICE

Antitrust Division

Notice Pursuant to the National Cooperative Research and Production Act of 1993—Electronic Healthcare Network Accreditation Commission

Notice is hereby given that, on January 18, 2008, pursuant to Section 6(a) of the National Cooperative Research and Production Act of 1993, 15 U.S.C. 4301 et. seq. (“the Act”), Electronic Healthcare Network Accreditation Commission (“EHNAC”) has filed written notifications simultaneously with the Attorney General and the Federal Trade Commission disclosing additions or changes to its standards development activities. The notifications were filed for the purpose of extending the Act's provisions limiting the recovery of antitrust plaintiffs to actual damages under specified circumstances. Specifically, EHNAC has expanded the scope of its standard setting activities in two new areas by initiating beta testing of two new accreditation programs i.e., one accreditation program to assure compliance with the security and privacy controls and procedures of the Health Insurance Portability and Accountability Act (HIPAA) of 1996 for those entities that create, send and receive electronic transcription and coding information, which in many cases includes protected health information (PHI) under HIPAA; and the other accreditation program for Third Party Administrators and Medical Billers that electronically receive and process administrative and clinical data from providers, payers and employers regarding claims, eligibility and payment information, which data contains PHI and must comply with HIPAA regulations regarding privacy and security in addition to technical and infrastructure along with resource requirements.

On March 8, 2005, EHNAC filed its original notification pursuant to Section 6(a) of the Act. The Department of Justice published a notice in the Federal Register pursuant to Section 6(b) of the Act on May 12, 2005 (70 FR 25110).

Patricia A. Brink,
Deputy Director of Operations, Antitrust Division.

[FR Doc. 08-752 Filed 2-19-08; 8:45 am]

BILLING CODE 4410-11-M